DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Montgomery (FEMA Docket No.: B-1107) | City of Montgomery (10-04-0501P) | January 5, 2010; January 12, 2010; Montgomery Advertiser | The Honorable Todd Strange, Mayor, City of Montgomery, 103 North Perry Street, Room 206, Montgomery, AL 36104 | December 28, 2009 | 010174
St. Clair (FEMA Docket No.: B-1102) | Unincorporated areas of St. Clair County (09-04-6331P) | December 24, 2009; December 31, 2009; The St. Clair News-Aegis | Mr. Stanley Batemon, Chairman, St. Clair County Commission, 165 5th Avenue, Suite 100, Ashville, AL 35953 | April 30, 2010 | 010290
Arizona:
Pima (FEMA Docket No.: B-1102) | Town of Marana (08-09-1811P) | October 9, 2009; October 16, 2009; Daily Territorial | The Honorable Ed Honea, Mayor, Town of Marana, 11555 West Civic Center Drive, Marana, AZ 85653 | January 19, 2010 | 040118
Pima (FEMA Docket No.: B-1102) | Town of Marana (09-09-0980P) | September 21, 2009; September 28, 2009; Daily Territorial | The Honorable Ed Honea, Mayor, Town of Marana, 11555 West Civic Center Drive, Marana, AZ 85653 | January 26, 2010 | 040118
Pima (FEMA Docket No.: B-1099) | Town of Oro Valley (08-09-1800P) | December 11, 2009; December 18, 2009; Daily Territorial | The Honorable Paul H. Loomis, Mayor, Town of Oro Valley, 11000 North La Canada Drive, Oro Valley, AZ 85737 | April 19, 2010 | 040109
Pima (FEMA Docket No.: B-1102) | Town of Oro Valley (08-09-1811P) | October 9, 2009; October 16, 2009; Daily Territorial | The Honorable Paul H. Loomis, Mayor, Town of Oro Valley, 11000 North La Canada Drive, Oro Valley, AZ 85737 | January 19, 2010 | 040109
Pima (FEMA Docket No.: B-1102) | Unincorporated areas of Pima County (08-09-1811P) | October 9, 2009; October 16, 2009; Daily Territorial | The Honorable Richard Elias, Chairman, Pima County Board of Supervisors, 130 West Congress Street, 11th Floor, Tucson, AZ 85701 | January 19, 2010 | 040073
Pima (FEMA Docket No.: B-1099) | City of Tucson (09-09-0492P) | December 9, 2009; December 16, 2009; Arizona Daily Star | The Honorable Bob Walkup, Mayor, City of Tucson, P.O. Box 27210, Tucson, AZ 85726 | April 15, 2010 | 040076
Yuma (FEMA Docket No.: B-1102) | Unincorporated areas of Yuma County (09-09-1722P) | December 21, 2009; December 28, 2009; Yuma Sun | The Honorable Gregory S. Ferguson, Chairman, Yuma County Board of, Supervisors, 198 South Main Street, Yuma, AZ 85364 | December 7, 2009 | 040099
Arkansas:
Benton (FEMA Docket No.: B-1102) | Town of Bethel Heights (09-06-1075P) | January 6, 2010; January 13, 2010; Arkansas Democrat-Gazette | The Honorable Fred Jack, Mayor, Town of Bethel Heights, 530 Sunrise Drive, Bethel Heights, AR 72764 | May 13, 2010 | 050386
Benton (FEMA Docket No.: B-1102) | City of Lowell (09-06-1075P) | January 6, 2010; January 13, 2010; Arkansas Democrat-Gazette | The Honorable Perry Long, Mayor, City of Lowell, 216 North Lincoln Street, Lowell, AR 72745 | May 13, 2010 | 050342
Crawford (FEMA Docket No.: B-1121) | City of Alma (09-06-2913P) | February 10, 2010; February 17, 2010; Alma Journal | The Honorable John R. Ballentine, Mayor, City of Alma, 804 Fayetteville Avenue, Alma, AR 72921 | January 28, 2010 | 050236
St. Francis (FEMA Docket No.: B-1099) | City of Forrest City (09-06-1699P) | December 9, 2009; December 16, 2009; Forrest City Times-Herald | The Honorable Gordon McCoy, Mayor, City of Forrest City, 224 North Rosser Street, Forrest City, AR 72335 | April 15, 2010 | 050187
St. Francis (FEMA Docket No.: B-1099) | Unincorporated areas of St. Francis County (09-06-1699P) | December 9, 2009; December 16, 2009; Forrest City Times-Herald | The Honorable Gary Hughes, St. Francis County Judge, 313 South Izard Street, Forrest City, AR 72335 | April 15, 2010 | 050184
California:
California: Contra Costa (FEMA Docket No.: B-1099) | City of Concord (09-09-1576P) | December 4, 2009; December 11, 2009; Contra Costa Times | The Honorable Laura M. Hoffmeister, Mayor, City of Concord, 1950 Parkside Drive, Concord, CA 94519 | April 12, 2010 | 065022
Santa Clara (FEMA Docket No.: B-1102) | City of San Jose (10-09-0251P) | January 5, 2010; January 12, 2010; San Jose Mercury News | The Honorable Chuck Reed, Mayor, City of San Jose, 200 East Santa Clara Street, San Jose, CA 95113 | December 29, 2009 | 060349
Colorado:
Eagle (FEMA Docket No.: B-1121) | Unincorporated areas of Eagle County (09-08-0907P) | January 28, 2010; February 4, 2010; The Eagle Valley Enterprise | The Honorable Peter Runyon, Chairman, Eagle County Board of Commissioners, P.O. Box 850, Eagle, CO 81631 | June 4, 2010 | 080051
El Paso (FEMA Docket No.: B-1099) | City of Colorado Springs (09-08-0730P) | December 23, 2009; December 30, 2009; The Gazette | The Honorable Lionel Rivera, Mayor, City of Colorado Springs, P.O. Box 1575, Colorado Springs, CO 80901 | April 29, 2010 | 080060
Larimer (FEMA Docket No.: B-1121) | City of Fort Collins (09-08-0465P) | February 8, 2010; February 15, 2010; Fort Collins Coloradoan | The Honorable Doug Hutchinson, Mayor, City of Fort Collins, P.O. Box 580, Fort Collins, CO 80522 | February 24, 2010 | 080102
Larimer (FEMA Docket No.: B-1121) | Unincorporated areas of Larimer County (09-08-0465P) | February 8, 2010; February 15, 2010; Fort Collins Coloradoan | The Honorable Steve Johnson, Chair Pro-Tem, Larimer County Board of Commissioners, P.O. Box 1190, Fort Collins, CO 80522 | February 24, 2010 | 080101
Colorado: Larimer (FEMA Docket No.: B-1107) | City of Loveland (09-08-0734P) | January 15, 2010; January 22, 2010; Daily Reporter-Herald | The Honorable Cecil Gutierrez, Mayor, City of Loveland, 500 East 3rd Street, Suite 330, Loveland, CO 80537 | May 24, 2010 | 080103
Montrose (FEMA Docket No.: B-1107) | Unincorporated areas of Montrose County (09-08-0799P) | December 3, 2009; December 10, 2009; Montrose Daily Press | The Honorable David White, Chairman, Montrose County Board of Commissioners, 161 South Townsend Avenue, Montrose, CO 81401 | April 9, 2010 | 080124
Summit (FEMA Docket No.: B-1107) | Town of Breckenridge (09-08-0933P) | January 29, 2010; February 5, 2010; Summit County Journal | The Honorable John Warner, Mayor, Town of Breckenridge, 150 Ski Hill Road, Breckenridge, CO 80424 | June 7, 2010 | 080172
Florida:
Collier (FEMA Docket No.: B-1121) | City of Marco Island (09-04-7821P) | February 19, 2010; February 26, 2010; Naples Daily News | Mr. Stephen T. Thompson, Marco Island City Manager, 50 Bald Eagle Drive, Marco Island, FL 34145 | February 9, 2010 | 120426
Hillsborough (FEMA Docket No.: B-1102) | Unincorporated areas of Hillsborough County (09-04-6011P) | January 4, 2010; January 11, 2010; The Tampa Tribune | Mr. Michael Merrill, Hillsborough County Administrator, 601 E. Kennedy Boulevard, 26th Floor, Tampa, FL 33602 | January 22, 2010 | 120112
Hillsborough (FEMA Docket No.: B-1107) | Unincorporated areas of Hillsborough County (09-04-6115P) | January 14, 2010; January 21, 2010; The Tampa Tribune | Mr. Michael Merrill, Hillsborough County Administrator, 601 E. Kennedy Boulevard, 26th Floor, Tampa, FL 33602 | May 21, 2010 | 120112
Lake (FEMA Docket No.: B-1102) | Unincorporated areas of Lake County (09-04-4297P) | January 4, 2010; January 11, 2010; Daily Commercial | The Honorable Welton G. Cadwell, Chairman, Lake County Board of Commissioners, P.O. Box 7800, Tavares, FL 32778 | May 11, 2010 | 120421
Orange (FEMA Docket No.: B-1107) | Unincorporated areas of Orange County (09-04-6043P) | January 14, 2010; January 21, 2010; Orlando Weekly | The Honorable Richard T. Crotty, Mayor, Orange County, 201 South Rosalind Avenue, 5th Floor, Orlando, FL 32801 | May 21, 2010 | 120179
Orange (FEMA Docket No.: B-1121) | Unincorporated areas of Orange County (09-04-6911P) | January 28, 2010, February 4, 2010, Orlando Weekly | The Honorable Richard T. Crotty, Mayor, Orange County, 201 South Rosalind Avenue, 5th Floor, Orlando, FL 32801 | January 19, 2010 | 120179
Pinellas (FEMA Docket No.: B-1107) | City of Gulfport (09-04-6868P) | January 29, 2010; February 5, 2010; St. Petersburg Times | The Honorable Mike Yakes, Mayor, City of Gulfport, 2401 53rd Street South, Gulfport, FL 33707 | January 20, 2010 | 125108
Pinellas (FEMA Docket No.: B-1107) | Unincorporated areas of Pinellas County (09-04-6868P) | January 29, 2010; February 5, 2010; St. Petersburg Times | The Honorable Karen Williams Seel, Chairman, Pinellas County Board of Commissioners, 315 Court Street, Clearwater, FL 33756 | January 20, 2010 | 125139
Sarasota (FEMA Docket No.: B-1099) | City of Sarasota (09-04-6869P) | December 9, 2009; December 16, 2009; Sarasota Herald-Tribune | The Honorable Richard Clapp, Mayor, City of Sarasota, 1565 1st Street, Room 101, Sarasota, FL 34236 | April 15, 2010 | 125150
Georgia:
Cobb (FEMA Docket No.: B-1107) | City of Marietta (09-04-6328P) | January 8, 2010; January 15, 2010; Marietta Daily Journal | The Honorable William B. Dunaway, Mayor, City of Marietta, P.O. Box 609, Marietta, GA 30061 | February 2, 2010 | 130226
Cobb (FEMA Docket No.: B-1107) | Unincorporated areas of Cobb County (09-04-6328P) | January 8, 2010; January 15, 2010; Marietta Daily Journal | The Honorable Samuel S. Olens, Chairman, Cobb County Board of Commissioners, 100 Cherokee Street, Marietta, GA 30090 | February 2, 2010 | 130052
Forsyth (FEMA Docket No.: B-1107) | City of Cumming (09-04-5443P) | December 30, 2009; January 6, 2010; Forsyth County News | The Honorable Henry Ford Gravitt, Mayor, City of Cumming, 100 Main Street, Cumming, GA 30040 | May 6, 2010 | 130236
Idaho:
Canyon (FEMA Docket No.: B-1099) | City of Nampa (09-10-0166P) | December 3, 2009; December 10, 2009; Idaho Press Tribune | The Honorable Tom Dale, Mayor, City of Nampa, 411 3rd Street South, Nampa, ID 83651 | December 29, 2009 | 160038
Canyon (FEMA Docket No.: B-1099) | Unincorporated areas of Canyon County (09-10-0166P) | December 3, 2009; December 10, 2009; Idaho Press Tribune | The Honorable Kathryn Alder, Chairperson, Canyon County Board of Commissioners, 1115 Albany Street, Caldwell, ID 83605 | December 29, 2009 | 160208
Illinois:
Kane (FEMA Docket No.: B-1102) | City of Elgin (09-05-2958P) | December 29, 2009; January 5, 2010; Courier News | The Honorable Edward Schock, Mayor, City of Elgin, 150 Dexter Court, Elgin, IL 60120 | May 5, 2010 | 170087
Kane (FEMA Docket No.: B-1102) | Village of Hampshire (09-05-2792P) | December 22, 2009; December 29, 2009; Kane County Chronicle | The Honorable Jeffrey Magnussen, President, Village of Hampshire, P.O. Box 457, Hampshire, IL 60140 | April 28, 2010 | 170327
Kane (FEMA Docket No.: B-1102) | Unincorporated areas of Kane County (09-05-2792P) | December 22, 2009; December 29, 2009; Kane County Chronicle | The Honorable Karen McConnaughay, Chairman, Kane County Board of Commissioners, 719 South Batavia Avenue, Geneva, IL 60134 | April 28, 2010 | 170896
Kansas:
Johnson (FEMA Docket No.: B-1107) | City of Lenexa (09-07-1009P) | January 20, 2010; January 27, 2010; The Johnson County Sun | The Honorable Michael Boehm, Mayor, City of Lenexa, 12350 West 87th Street Parkway, Lenexa, KS 66215 | January 12, 2010 | 200168
Sedgwick (FEMA Docket No.: B-1102) | City of Park City (09-07-1605P) | January 4, 2010; January 11, 2010; Wichita Eagle | The Honorable Emil Bergquist, Mayor, City of Park City, 6110 North Hydraulic, Park City, KS 67219 | May 11, 2010 | 200963
Sedgwick (FEMA Docket No.: B-1102) | Unincorporated areas of Sedgwick County (09-07-1605P) | January 4, 2010; January 11, 2010; Wichita Eagle | The Honorable Kelly Parks, Chairman, Sedgwick County Board of Commissioners, 525 North Main Street, Suite 320, Wichita, KS 67203 | May 11, 2010 | 200321
Kentucky:
Louisville-Jefferson County Metropolitan Government (FEMA Docket No.: B-1107) | Louisville-Jefferson County Metropolitan Government (10-04-0314P) | January 15, 2010; January 22, 2010; The Courier Journal | The Honorable Jerry E. Abramson, Mayor, Louisville-Jefferson County Metropolitan Government, 527 West Jefferson Street, Louisville, KY 40202 | May 24, 2010 | 210120
Louisiana:
Caddo (FEMA Docket No.: B-1102) | City of Shreveport (09-06-2855P) | January 4, 2010; January 11, 2010; The Times | The Honorable Cedric Glover, Mayor, City of Shreveport, 505 Travis Street, Shreveport, LA 71101 | May 11, 2010 | 220036
Mississippi:
Hinds (FEMA Docket No.: B-1107) | City of Jackson (09-04-5350P) | January 15, 2010; January 22, 2010; The Clarion-Ledger | The Honorable Harvey Johnson, Mayor, City of Jackson, P.O. Box 17, Jackson, MS 39205 | December 31, 2009 | 280072
Missouri:
Jasper (FEMA Docket No.: B-1107) | City of Joplin (09-07-0562P) | January 15, 2010; January 22, 2010; The Joplin Globe | The Honorable Gary Shaw, Mayor, City of Joplin, 602 South Main Street, Joplin, MO 64801 | May 24, 2010 | 290183
Newton (FEMA Docket No.: B-1107) | Unincorporated areas of Newton County (09-07-0562P) | January 15, 2010; January 22, 2010; The Joplin Globe | The Honorable Jerry Carter, Presiding Commissioner, Newton County Commission, 101 South Wood Street, Neosho, MO 64850 | May 24, 2010 | 290820
New Mexico:
Bernalillo (FEMA Docket No.: B-1107) | City of Rio Rancho (09-06-1628P) | January 15, 2010; January 22, 2010; The Albuquerque Journal | The Honorable Thomas E. Swisstack, Mayor, City of Rio Rancho, 3200 Civic Center Circle Northeast, Rio Rancho, NM 87144 | May 24, 2010 | 350146
Bernalillo (FEMA Docket No.: B-1107) | Unincorporated areas of Bernalillo County (09-06-1628P) | January 15, 2010; January 22, 2010; The Albuquerque Journal | The Honorable Alan B. Armijo, Chairman, Bernalillo County Board, of Commissioners, 1 Civic Plaza Northwest, Albuquerque, NM 87102 | May 24, 2010 | 350001
North Carolina:
Dare (FEMA Docket No.: B-1123) | Town of Kill Devil Hills (09-04-6287P) | November 10, 2009; November 17, 2009; The Coastland Times | The Honorable Raymond Sturza, Mayor, Town of Kill Devil Hills, P.O. Box 1719, Kill Devil Hills, NC 27948 | October 30, 2009 | 375353
Ohio:
Lucas (FEMA Docket No.: B-1099) | Unincorporated areas of Lucas County (09-05-4565P) | December 2, 2009; December 9, 2009; Toledo Blade | The Honorable Pete Gerken, Chairman, Lucas County Board of Commissioners, 1 Government Center, Suite 800, Toledo, OH 43604 | November 20, 2009 | 390359
Lucas (FEMA Docket No.: B-1099) | City of Toledo (09-05-4565P) | December 2, 2009; December 9, 2009; Toledo Blade | The Honorable Carleton S. Finkbeiner, Mayor, City of Toledo, 1 Government Center, 640 Jackson Street, Suite 2200, Toledo, OH 43604 | November 20, 2009 | 395373
Lucas (FEMA Docket No.: B-1102) | City of Toledo (09-05-5298P) | January 6, 2010; January 13, 2010; Toledo Blade | The Honorable Carleton S. Finkbeiner, Mayor, City of Toledo, 1 Government Center, 640 Jackson, Suite 2200, Toledo, OH 43604 | December 29, 2009 | 395373
Miami (FEMA Docket No.: B-1102) | City of Troy (09-05-3442P) | December 14, 2009; December 21, 2009; Troy Daily News | The Honorable Michael Beamish, Mayor, City of Troy, 100 South Market Street, Troy, OH 45373 | December 30, 2009 | 390402
Montgomery (FEMA Docket No.: B-1102) | City of Moraine (08-05-1380P) | December 9, 2009; December 16, 2009; Dayton Daily News | The Honorable Roger Mathney, Mayor, City of Moraine, 4200 Dryden Road, Moraine, OH 45439 | April 15, 2010 | 390414
Montgomery (FEMA Docket No.: B-1102) | City of West Carrollton (08-05-1380P) | December 9, 2009; December 16, 2009; Dayton Daily News | The Honorable Jeffery W. Sanner, Mayor, City of West Carrollton, 300 East Central Avenue, West Carrollton, OH 45449 | April 15, 2010 | 390419
Oklahoma:
Tulsa (FEMA Docket No.: B-1102) | City of Glenpool (09-06-0482P) | January 7, 2010; January 14, 2010; Tulsa Daily Commerce & Legal News | The Honorable Shayne Buchanan, Mayor, City of Glenpool, P.O. Box 70, Glenpool, OK 74033 | December 30, 2009 | 400208
Tulsa (FEMA Docket No.: B-1102) | Unincorporated areas of Tulsa County (09-06-0482P) | January 7, 2010; January 14, 2010; Tulsa Daily Commerce & Legal News | The Honorable Karen Keith, Chairwoman, Tulsa County Board of Commissioners, 500 South Denver, Tulsa, OK 74103 | December 30, 2009 | 400462
Oregon:
Clackamas (FEMA Docket No.: B-1107) | City of Lake Oswego (09-10-0738P) | January 7, 2010; January 14, 2010; Lake Oswego Review | The Honorable Jack Hoffman, Mayor, City of Lake Oswego, P.O. Box 369, Lake Oswego, OR 97034 | May 14, 2010 | 410018
Marion (FEMA Docket No.: B-1107) | City of Salem (09-10-0105P) | December 24, 2009; December 31, 2009; Statesman Journal | The Honorable Janet Taylor, Mayor, City of Salem, 555 Liberty Street Southeast, Room 220, Salem, OR 97301 | April 30, 2010 | 410167
Pennsylvania:
Chester (FEMA Docket No.: B-1102) | Borough of West Chester (09-03-1120P) | January 4, 2010; January 11, 2010; Daily Local News | The Honorable Dick B. Yoder, Mayor, Borough of West Chester, 401 East Gay Street, West Chester, PA 19380 | December 24, 2009 | 420292
Chester (FEMA Docket No.: B-1121) | Township of West Whiteland (09-03-1797P) | January 29, 2010; February 5, 2010; Daily Local News | The Honorable Diane Snyder, Chairman, West Whiteland Township Board of Supervisors, 101 Commerce Drive, Exton, PA 19341 | January 21, 2010 | 420295
Northampton (FEMA Docket No.: B-1102) | City of Bethlehem (09-03-1764P) | December 31, 2009; January 7, 2010; Express-Times | The Honorable John B. Callahan, Mayor, City of Bethlehem, 10 East Church Street, Bethlehem, PA 18018 | December 22, 2009 | 420718
South Carolina:
Lexington (FEMA Docket No.: B-1107) | Unincorporated areas of Lexington County (10-04-0151P) | January 14, 2010; January 21, 2010; The Lexington County Chronicle | The Honorable Debra B. Summers, Chair, Lexington County Council, 212 South Lake Drive, Lexington, SC 29072 | May 21, 2010 | 450129
York (FEMA Docket No.: B-1099) | Unincorporated areas of York County (09-04-4239P) | December 3, 2009; December 10, 2009; The Herald | The Honorable Houston “Buddy” Motz, Chairman, York County Board of Commissioners, 2047 Poinsett Drive, Rock Hill, SC 29732 | November 20, 2009 | 450193
Tennessee:
Hamilton (FEMA Docket No.: B-1121) | City of Chattanooga (09-04-3516P) | February 12, 2010; February 19, 2010; Chattanooga Times Free Press | The Honorable Ron Littlefield, Mayor, City of Chattanooga, 101 East 11th Street, Chattanooga, TN 37402 | January 29, 2010 | 470072
Maury (FEMA Docket No.: B-1121) | City of Spring Hill (09-04-2487P) | January 29, 2010; February 5, 2010; The Daily Herald | The Honorable Michael Dinwiddie, Mayor, City of Spring Hill, P.O. Box 789, Spring Hill, TN 37174 | February 19, 2010 | 470278
Washington (FEMA Docket No.: B-1107) | City of Johnson City (09-04-5738P) | January 14, 2010; January 21, 2010; Johnson City Press | Mr. M. Denis Peterson, City Manager, City of Johnson City, 601 East Main Street, Johnson City, TN 37601 | May 21, 2010 | 475432
Wilson (FEMA Docket No.: B-1102) | City of Lebanon (10-04-0682P) | January 8, 2010; January 15, 2010; Lebanon Democrat | The Honorable Philip Craighead, Mayor, City of Lebanon, 200 North Castle Heights Avenue, Suite 100, Lebanon, TN 37087 | May 17, 2010 | 470208
Texas:
Bexar (FEMA Docket No.: B-1107) | City of San Antonio (08-06-1091P) | January 15, 2010; January 22, 2010; San Antonio Express-News | The Honorable Julian Castro, Mayor, City of San Antonio, P.O. Box 839966, San Antonio, TX 78283 | May 24, 2010 | 480045
Brazoria (FEMA Docket No.: B-1102) | City of Angleton (08-06-2457P) | June 8, 2009; June 15, 2009; The Facts | The Honorable J. Patrick Henry, Mayor, City of Angleton, 121 South Velasco Street, Angleton, TX 77515 | October 13, 2009 | 480064
Collin (FEMA Docket No.: B-1102) | City of Frisco (09-06-2567P) | January 8, 2010; January 15, 2010; Frisco Enterprise | The Honorable Maher Maso, Mayor, City of Frisco, 6101 Frisco Square Boulevard, Frisco, TX 75034 | May 17, 2010 | 480134
Dallas (FEMA Docket No.: B-1099) | Unincorporated areas of Dallas County (09-06-2480P) | December 4, 2009; December 11, 2009; Dallas Morning News | The Honorable Jim Foster, Dallas County Judge, 411 Elm Street, Suite 210, Dallas, TX 75202 | December 21, 2009 | 480165
Dallas (FEMA Docket No.: B-1099) | City of Wilmer (09-06-2480P) | December 4, 2009; December 11, 2009; Dallas Morning News | The Honorable Jeff Steele, Mayor, City of Wilmer, 128 North Dallas Avenue, Wilmer, TX 75172 | December 21, 2009 | 480190
Denton (FEMA Docket No.: B-1121) | City of Fort Worth (09-06-2866P) | December 14, 2009; December 21, 2009; Fort Worth Star-Telegram | The Honorable Michael J. Moncrief, Mayor, City of Fort Worth, 1000 Throckmorton Street, Fort Worth, TX 76102 | April 20, 2010 | 480596
Denton (FEMA Docket No.: B-1107) | City of Lewisville (09-06-2230P) | January 13, 2010; January 20, 2010; Lewisville Leader. | The Honorable Dean Ueckert, Mayor, City of Lewisville, P.O. Box 299002, Lewisville, TX 75029 | May 20, 2010 | 480195
Denton (FEMA Docket No.: B-1102) | City of Lewisville (09-06-0314P) | December 30, 2009; January 6, 2010; Lewisville Leader | The Honorable Dean Ueckert, Mayor, City of Lewisville, P.O. Box 299002, Lewisville, TX 75029 | May 6, 2010 | 480195
Fort Bend (FEMA Docket No.: B-1099) | First Colony L.I.D. (10-06-0050P) | November 26, 2009; December 3, 2009; Fort Bend Sun | Mr. Gary Knapp, Board President, First Colony L.I.D, c/o Allen Boone Humphries Robinson, LLP, 3200 Southwest Freeway, Suite 2600, Houston, TX 77027 | April 2, 2010 | 481583
Fort Bend (FEMA Docket No.: B-1099) | City of Missouri (09-06-0987P) | December 3, 2009; December 10, 2009; Fort Bend Sun | The Honorable Allen Owen, Mayor, City of Missouri, 1522 Texas Parkway, Missouri, TX 77489 | April 9, 2009 | 480304
Fort Bend (FEMA Docket No.: B-1099) | City of Sugar Land (10-06-0050P) | November 26, 2009; December 3, 2009; Fort Bend Sun | The Honorable James A. Thompson, Mayor, City of Sugar Land, P.O. Box 110, Sugar Land, TX 77487 | April 2, 2010 | 480234
Fort Bend (FEMA Docket No.: B-1099) | Unincorporated areas of Fort Bend County (09-06-0987P) | December 3, 2009; December 10, 2009; Fort Bend Sun | The Honorable Robert E. Hebert, PhD, Fort Bend County Judge, 301 Jackson Street, Richmond, TX 77469 | April 9, 2010 | 480228
Fort Bend (FEMA Docket No.: B-1099) | Unincorporated areas of Fort Bend County (10-06-0050P) | November 26, 2009; December 3, 2009; Fort Bend Sun | The Honorable Robert E. Hebert, PhD, Fort Bend County Judge, 301 Jackson Street, Richmond, TX 77469 | April 2, 2010 | 480228
Harris (FEMA Docket No.: B-1107) | City of Houston (09-06-2519P) | January 14, 2010; January 21, 2010; Houston Chronicle | The Honorable Annise D. Parker, Mayor, City of Houston, P.O. Box 1562, Houston, TX 77251 | December 31, 2009 | 480296
Harris (FEMA Docket No.: B-1107) | Unincorporated areas of Harris County (09-06-2519P) | January 14, 2010; January 21, 2010; Houston Chronicle | The Honorable Edward J. Emmett, Harris County Judge, 1001 Preston Street, Suite 911, Houston, TX 77002 | December 31, 2009 | 480287
Harris (FEMA Docket No.: B-1099) | City of Pasadena (09-06-2867P) | December 2, 2009; December 9, 2009; Pasadena Citizen | The Honorable John Isbell, Mayor, City of Pasadena, 1211 Southmore Avenue, Pasadena, TX 77502 | November 30, 2009 | 480307
Lubbock (FEMA Docket No.: B-1102) | City of Lubbock (08-06-2706P) | January 4, 2010; January 11, 2010; Lubbock Avalanche-Journal | The Honorable Tom Martin, Mayor, City of Lubbock, P.O. Box 2000, Lubbock, TX 79457 | May 11, 2010 | 480452
Tarrant (FEMA Docket No.: B-1118) | City of Hurst (09-06-2085P) | December 18, 2008, December 25, 2009; Star-Telegram | The Honorable Richard Ward, Mayor, City of Hurst, 1505 Precinct Line Road, Hurst, TX 76054 | April 26, 2010 | 480601
Tarrant (FEMA Docket No.: B-1121) | City of North Richland Hills (09-06-0903P) | December 14, 2009; December 21, 2009; Star-Telegram | The Honorable T. Oscar Trevino, Jr., P.E., Mayor, City of North Richland Hills, 7301 North East Loop 820, North Richland Hills, TX 76180 | December 30, 2009 | 480607
Travis (FEMA Docket No.: B-1102) | City of Austin (09-06-2275P) | January 8, 2010; January 15, 2010; Austin American Statesman | The Honorable Lee Leffingwell, Mayor, City of Austin, P.O. Box 1088, Austin, TX 78767 | May 17, 2010 | 480624
Travis (FEMA Docket No.: B-1107) | City of Pflugerville (09-06-2902P) | January 14, 2010; January 21, 2010; Pflugerville Pflag | The Honorable Jeff Coleman, Mayor, City of Pflugerville, P.O. Box 589, Pflugerville, TX 78691 | December 31, 2009 | 481028
Utah:
Washington (FEMA Docket No.: B-1099) | City of St. George (09-08-0868P) | December 4, 2009; December 11, 2009; The Spectrum | The Honorable Daniel D. McArthur, Mayor, City of St. George, 175 East 200 North, St. George, UT 84770 | April 12, 2010 | 490177
Virginia:
City of Newport News (FEMA Docket No.: B-1102) | City of Newport News (09-03-1019P) | December 24, 2009; December 31, 2009; Daily Press | The Honorable Joe S. Frank, Mayor, City of Newport News, 2400 Washington Avenue, Newport News, VA 23607 | April 30, 2010 | 510103
City of Lynchburg (FEMA Docket No.: B-1107) | City of Lynchburg (09-03-1318P) | January 15, 2010; January 22, 2010; News & Advance | The Honorable Joan F. Foster, Mayor, City of Lynchburg, 900 Church Street, Lynchburg, VA 24504 | December 31, 2009 | 510093
Washington:
King (FEMA Docket No.: B-1121) | City of Snoqualmie (08-10-0665P) | February 5, 2010; February 12, 2010; The Seattle Times | The Honorable Matt Larson, Mayor, City of Snoqualmie, P.O. Box 987, Snoqualmie, WA 98065 | February 26, 2010 | 530090
King (FEMA Docket No.: B-1121) | Unincorporated areas of King County (08-10-0665P) | February 5, 2010; February 12, 2010; The Seattle Times | The Honorable Dow Constantine, Chairman, King County Board of Commissioners, 516 3rd Avenue, Room 1200, Seattle, WA 98104 | February 26, 2010 | 530071
Wisconsin:
Waukesha (FEMA Docket No.: B-1121) | Village of Elm Grove (09-05-5085P) | January 14, 2010; January 21, 2010; Waukesha Freeman | The Honorable Neil Palmer, President, Village of Elm Grove, 13600 Juneau Boulevard, Elm Grove, WI 53122 | February 5, 2010 | 550578
Wyoming:
Campbell (FEMA Docket No.: B-1102) | Unincorporated areas of Campbell County (09-08-0286P) | January 4, 2010; January 11, 2010; The News-Record | The Honorable Dan Coolidge, Chairman, Campbell County Board of Commissioners, 901 Fairway Drive, Gillette, WY 82718 | May 11, 2010 | 560081
Campbell (FEMA Docket No.: B-1102) | City of Gillette (09-08-0286P) | January 4, 2010; January 11, 2010; The News-Record | The Honorable Duane Evenson, Mayor, City of Gillette, 1411 West 4th Street, Gillette, WY 82716 | May 11, 2010 | 560007

(Catalog of Federal Domestic Assistance No. 97.022, “Flood Insurance.”)

Dated: December 22, 2010.
Edward Connor,
Acting Federal Insurance and Mitigation Administrator, Mitigation, Department of Homeland Security, Federal Emergency Management Agency.

[FR Doc. 2010-33098 Filed 12-30-10; 8:45 am]

BILLING CODE 9110-12-P